DEPARTMENT OF TRANSPORTATION

Federal Aviation Administration

14 CFR Part 73

[Docket No. FAA-2025-0273; Airspace Docket No. 23-ASO-43]

RIN 2120-AA66

Establishment of Restricted Areas R-5305A, R-5305B, and R-5305C; Camp Lejeune, NC; and Restricted Areas R-5307A, R-5307B, and R-5307C; Cherry Point, NC

AGENCY: Federal Aviation Administration (FAA), DOT.

ACTION: Proposed rule; extension of comment period.

SUMMARY: This action extends the comment period for a notice of proposed rulemaking (NPRM) that was published on March 20, 2025. In that document, the FAA proposed to establish restricted areas R-5305A, R-5305B, and R-5305C at Camp Lejeune, NC; and restricted areas R-5307A, R-5307B, and R-5307C at Cherry Point, NC. This extension is a result of a planned outage of the eRulemaking General Services Administration (GSA) Cloud Migration website necessitating an extension to the comment period.

DATES: The comment period for the NPRM published on March 20, 2025 (90 FR 13112), scheduled to close on May 5, 2025, is extended until May 9, 2025.

ADDRESSES: Send comments identified by FAA Docket No. FAA-2025-0273 and Airspace Docket No. 23-ASO-43 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Brian Vidis, Rules and Regulations Group, Policy Directorate, Federal Aviation Administration, 600 Independence Avenue SW, Washington, DC 20597; telephone: (202) 267-8783.

SUPPLEMENTARY INFORMATION:

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address, phone number, and hours of operation). An informal docket may also be examined during normal business hours at the office of the Eastern Service Center, Federal Aviation Administration, Room 210, 1701 Columbia Avenue, College Park, GA 30337.

Background

Subsequent to publication of the NPRM, the FAA was advised that there is a planned outage of the Federal Register comment submission website. The planned outage is scheduled from April 25, 2025, through April 28, 2025. The FAA published a NPRM for Docket No. FAA 2025-0273 in the Federal Register (90 FR 13112; March 20, 2025), proposing to establish restricted areas R-5305A, R-5305B, and R-5305C at Camp Lejeune, NC; and restricted areas R-5307A, R-5307B, and R-5307C at Cherry Point, NC. The NPRM for Docket No. FAA 2025-0273 specified that comments must be received on or before May 5, 2025. The planned outage is near the end of the comment submission timeframe; therefore it is deemed appropriate for the comment period to be extended to compensate for the outage and to allow proportionate time for comments to be submitted.

Extension of Comment Period

The FAA has determined that extension of the comment period is consistent with the public interest, and that good cause exists for taking this action. Therefore, pursuant to the authority delegated to me, the comment period for Docket No. FAA-2025-0273; Airspace Docket No. 23-ASO-43 published in the Federal Register on March 20, 2025 (90 FR 13112), FR Doc. 2025-04392, is extended until May 9, 2025.

Issued in Washington, DC, on April 10, 2025.
Brian Eric Konie,
Manager (A), Rules and Regulations Group.

[FR Doc. 2025-06416 Filed 4-15-25; 8:45 am]

BILLING CODE 4910-13-P